DEPARTMENT OF EDUCATION

[CFDA NO: 84.349A]

Early Childhood Educator Professional Development Program

AGENCY: Office of Elementary and Secondary Education, Department of Education.

ACTION: Notice of proposed achievement indicators.

SUMMARY: The Assistant Secretary for the Office of Elementary and Secondary Education announces proposed achievement indicators for the Early Childhood Educator Professional Development Program (ECEPD), for fiscal year (FY) 2003 and future year grants.

This professional development program is authorized by section 2151(e) of the Elementary and Secondary Education Act (ESEA), as added by the No Child Left Behind Act 2001, Public Law 107-110. The ECEPD program is a discretionary grant program under which funded projects provide high-quality, sustained, and intensive professional development to improve the knowledge and skills of early childhood educators who work in high-poverty communities, particularly with disadvantaged young children. The purpose of the professional development is to enhance the school readiness of young children to prevent them from encountering difficulties once they enter school, based on the best available research on early childhood pedagogy and on child development and learning. These grants are part of the President's early childhood initiative, Good Start, Grow Smart, and complement the Department of Education's early learning programs, such as Early Reading First, by helping States and local communities strengthen early learning for young children.

DATES: We must receive your comments on or before February 5, 2003.

ADDRESSES: Address all comments about these proposed achievement indicators to Patricia McKee, U.S. Department of Education, 400 Maryland Avenue, SW., room 3W106 FB-6, Washington, DC 20202-2645. If you prefer to send your comments through the Internet, use the following address: eceprofdev@ed.gov.

You must include the term “Comments on Early Childhood Educator Professional Development” in the subject line of your electronic message.

FOR FURTHER INFORMATION CONTACT: Patricia McKee. Telephone (202) 260-0991 or via Internet: Patricia.McKee@ed.gov. Or Melanie Kadlic, U.S. Department of Education, Office of Elementary and Secondary Education, U.S. Department of Education, 400 Maryland Avenue, SW., room 3C138, FB-6, Washington, DC 20202-2645. Telephone (202) 260-3793 or via Internet: Melanie.Kadlic@ed.gov.

If you use a telecommunications device for the deaf (TDD), you may call the TDD number at (202) 205-4475.

Individuals with disabilities may obtain this document in an alternative format (e.g., Braille, large print, or computer diskette) on request to one of the contact persons listed under FOR FURTHER INFORMATION CONTACT.

SUPPLEMENTARY INFORMATION:

Invitation to Comment

We invite you to submit comments about these proposed achievement indicators. To ensure that your comments have maximum effect in developing the notice of final indicators, we urge you to be specific about any recommended changes. We are particularly interested in receiving comments on whether the proposed indicators are sufficiently specific and clear.

During and after the comment period (until publication of the final achievement indicators), you may inspect all public comments about these proposed achievement indicators in room 3W100 FB-6, 400 Maryland Avenue, SW., Washington, DC, between the hours of 8:30 a.m. and 4 p.m., Eastern time, Monday through Friday of each week except Federal holidays. To obtain access to the building and room, please contact in advance one of the contact persons listed under FOR FURTHER INFORMATION CONTACT.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact one of the individuals listed under FOR FURTHER INFORMATION CONTACT.

We will announce the final achievement indicators in a notice in the Federal Register. We will determine those final indicators after considering responses to this notice and other information available to the Department. This notice does not preclude us from proposing additional indicators in the future, subject to meeting applicable rulemaking requirements.

Note: This notice does not solicit applications. In any year in which we choose to use these proposed achievement indicators, we will invite applications through a notice in the Federal Register.

Background: The ECEPD program provides funds for projects that carry out activities to improve the knowledge and skills of early childhood educators working in programs that are located in high-need communities and particularly serve disadvantaged young children. These programs are based upon the best available research on early childhood pedagogy and on child development and learning, including early language and literacy development. The grants serve an important purpose because high-quality, intensive, research-based professional development is critical for implementing effective early childhood programs that enhance the school readiness of young children.

ECEPD grants are made to partnerships of: providers of professional development for early childhood educators; State or local public agencies or private organizations; and if feasible, a provider experienced in training early childhood educators to identify and prevent behavior problems or work with children identified as or suspected to be victims of abuse.

Section 2151(e)(6) of the ESEA requires the Secretary to announce achievement indicators for the ECEPD program. These achievement indicators must be designed: (1) To measure the quality and accessibility of the professional development provided; (2) to measure the impact of that professional development on the early childhood education provided by the individuals who receive the professional development; and (3) to provide any other measures of program impact that the Secretary determines to be appropriate. The statute requires each partnership receiving an ECEPD grant to report annually to the Secretary on the partnership's progress toward attaining these achievement indicators. In addition, the statute provides that the Secretary may terminate an ECEPD grant if the Secretary determines that the partnership receiving the grant is not making satisfactory progress toward attaining the achievement indicators.

The Secretary may use these achievement indicators for the ECEPD grant competition for FY 2003 and future years. The achievement indicators proposed in this notice are the same as the achievement indicators that the Secretary announced in the Federal Register and used for the FY 2002 ECEPD grant competition (67 FR 37406, May 29, 2002).

Achievement Indicators: The Secretary announces the following proposed achievement indicators for the ECEPD program, as required by section 2151(e)(6) of the ESEA:

Indicator 1: Increasing numbers of hours of high quality professional development will be offered. High-quality professional development must be ongoing, intensive, classroom-focused, and based on scientific research on cognitive and social development in early childhood and effective pedagogy for young children.

Indicator 2: Early childhood educators who work in early childhood programs serving low-income children will participate in greater numbers, and in increasing numbers of hours, in high-quality professional development.

Indicator 3: Early childhood educators will demonstrate increased knowledge and understanding of effective strategies to support school readiness based on scientific research on cognitive and social development in early childhood and effective pedagogy for young children.

Indicator 4: Early childhood educators will more frequently apply research-based approaches in early childhood pedagogy and child development and learning domains, including using a content-rich curriculum and activities that promote language and cognitive development.

Indicator 5: Children will demonstrate improved readiness for school, especially in the areas of appropriate social and emotional behavior and early language and literacy competencies.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our proposed achievement indicators for this program.

Electronic Access to This Document

You may review this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.349A, Early Childhood Educator Professional Development Program)
Program Authority: 20 U.S.C. 6651(e).
Dated: December 30, 2002.
Susan B. Neuman,
Assistant Secretary for Elementary and Secondary Education.

[FR Doc. 03-159 Filed 1-3-03; 8:45 am]

BILLING CODE 4000-01-P